COMMISSION ON CIVIL RIGHTS

Agenda and Notice of Public Meeting of the West Virginia Advisory Committee

Notice is hereby given, pursuant to the provisions of the rules and regulations of the U.S. Commission on Civil Rights, that a meeting of the West Virginia Advisory Committee to the Commission will convene at 11:30 a.m. and adjourn at 3:30 p.m. on March 5, 2002, at the Charleston Job Corps Center, 1000 Kennawa Drive, Charleston, West Virginia 25311. The Committee will hold a planning meeting to discuss its draft report based on three community forums held between 1998 and 2000, coordinate information gathered from newly elected officials, and plan future projects.

Persons desiring additional information, or planning a presentation to the Committee, should contact Chairperson Gregory T. Hinton, 304-367-4244, or Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, February 8, 2002.
Ivy L. Davis,
Chief, Regional Programs Coordination Unit.

[FR Doc. 02-3665 Filed 2-13-02; 8:45 am]

BILLING CODE 6335-01-P